OFFICE OF THE UNITED STATES TRADE REPRESENTATIVE

[Docket No. WTO/D-210]

WTO Consultations Regarding Belgium—Measures Affecting Imported Rice

AGENCY: Office of the United States Trade Representative.

ACTION: Notice; request for comments.

SUMMARY: The Office of the United States Trade Representative (USTR) is providing notice that on October 12, 2000, the United States requested consultations with Belgium under the Marrakesh Agreement Establishing the World Trade Organization (WTO), regarding Belgium's administration of laws and regulations establishing the customs duties applicable to rice imported from the United States. Since July 1997, Belgian customs authorities have established customs values and duties for rice by using reference prices, resulting in an assessment of duties in amounts that appear to exceed the duty required by Headnote 7 of the Schedule of Specific Commitments of the European Communities and Their Member States LXXX. Belgium's administration of its tariff regime for rice, moreover, has contributed to substantial uncertainty regarding the rate of duty that will be applicable to shipments of imported rice. The United States considers that Belgium's measures relating to imported rice appear to contravene Articles I, II, VII, VIII, X and XI of the General Agreement on Tariffs and Trade 1994 (GATT). In addition, Belgium's administration of its customs regime for imported rice appears to be inconsistent with Belgium's obligations under the Agreement on Implementation of Article VII of the GATT 1994 (“Customs Valuation Agreement”), the Agreement on Technical Barriers to Trade, and the Agreement on Agriculture. Pursuant to Articles 1 and 4.3 of the WTO Dispute Settlement Understanding (“DSU”), such consultations are to take place within a period of 30 days from the date of the request, or within a period otherwise mutually agreed between the United States and Belgium. USTR invites written comments from the public concerning the issues raised in this dispute.

DATES: Although the USTR will accept any comments received during the course of the dispute settlement proceedings, comments should be submitted on or before November 25, 2000 to be assured of timely consideration by USTR.

ADDRESSES: Submit comments to Sandy McKinzy, Monitoring and Enforcement Unit, Office of the General Counsel, Room 122, Office of the United States Trade Representative, 600 17th Street, NW., Washington, DC, 20508, Attn: Belgium Rice Dispute. Telephone: (202) 395-3582.

FOR FURTHER INFORMATION CONTACT: James M. Lyons, Associate General Counsel, Office of the United States Trade Representative, 600 17th Street, NW., Washington, DC, (202) 395-3582.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide an earlier opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the United States

The United States considers that Belgium's administration of its laws and regulations establishing the customs duties applicable to rice imported from the United States appears to be inconsistent with its WTO obligations. Belgian customs authorities have established customs values and import duties using reference prices without consideration of either the value or characteristics of the particular rice shipments involved. Moreover, the measures employed by Belgian authorities appear to have been applied in a manner that discriminates against rice imported from the United States. The Belgian measures also appear to have restricted imports of rice into Belgium.

The United States also considers that Belgium has failed to comply with the requirements of Articles I, II, VII, VIII, and X of the GATT 1994, Articles 1-6, 7, 10, 14, 16, and Annex I of the Customs Valuation Agreement, and Articles 2, 3, 5, 6, 7, and 9 of the Agreement on Technical Barriers to Trade.

In addition, Belgium appears to be restricting imports in a manner that would be inconsistent with GATT Articles I and XI and Articles 4 of the Agreement on Agriculture.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include a listing of any comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/D-210, Belgium—Measures Affecting Imports of Rice) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-27703 Filed 10-26-00; 8:45 am]

BILLING CODE 3190-01-M